Title 3—

The President

Proclamation 10006 of April 1, 2020

World Autism Awareness Day, 2020

By the President of the United States of America

A Proclamation

World Autism Awareness Day is a tribute to the millions of Americans living with autism spectrum disorder (ASD). Their numerous triumphs over many and varied obstacles are a testament to the strength and resolve of the American spirit. We also extend our gratitude to all those who, through their unwavering dedication to supporting Americans with ASD, help empower them to thrive at home, in the workplace, and in their communities.

As President, I am committed to ensuring all Americans with ASD can thrive and prosper. Last year, I was proud to sign into law legislation reauthorizing the Autism CARES Act, approving more than $1.8 billion in funding over 5 years to research and develop new treatments and therapies, and enhancing support services for those with ASD throughout their entire lives. This legislation also expanded the Interagency Autism Coordinating Committee to include representatives from 17 Federal agencies and stakeholders from throughout the autism community. The enhanced public-private partnerships made possible by these efforts are providing support to those with ASD.

Early detection and treatment play essential roles in optimizing the lives of people with ASD. To assist in making every resource available to these individuals during the most critical developmental stage of their life, the National Institutes of Health (NIH) recently awarded more than $4 million to research, develop, and validate screening tools that detect signs of ASD during the first year of life. NIH has also awarded more than $36 million to enhance healthcare providers' expertise in caring for Americans with ASD. This funding is vital to those living with ASD, expanding opportunities to live lives full of meaning and joy.

Approximately 1 in every 59 American children lives with ASD. That means that approximately 500,000 of our Nation's young people who turn 18 over the next decade enter adulthood with ASD. My Administration, along with coordinated efforts at the State and local levels, is committed to providing opportunities to assist in their successful transition into rewarding careers and fulfilling lives. Through the Department of Labor's Youth Policy Development Center and the Apprenticeship Inclusion Model initiative, we are expanding opportunities for Americans with ASD to develop high-demand skills that pair with good-paying jobs. Additionally, the Department of Housing and Urban Development has allocated more than $110 million to increase the availability of affordable and reliable housing models to enable individuals with disabilities, including ASD, to live independently.

Today, we join with the international ASD community in reaffirming our resolve to support all those with ASD as they continue to strengthen our families, our communities, our Nation, and the world. Together, we will work to promote more meaningful connections of respect and build a society where everyone has the opportunity to succeed.

NOW, THEREFORE, I, DONALD J. TRUMP, President of the United States of America, by virtue of the authority vested in me by the Constitution and the laws of the United States, do hereby proclaim April 2, 2020, as World Autism Awareness Day. I call upon all Americans to learn more about the signs of autism to improve early diagnosis, understand the challenges faced by individuals with autism, and find ways to support those with autism and their families.

IN WITNESS WHEREOF, I have hereunto set my hand this first day of April, in the year of our Lord two thousand twenty, and of the Independence of the United States of America the two hundred and forty-fourth.

[FR Doc. 2020-07388

Filed 4-6-20; 8:45 am]

Billing code 3295-F0-P